DEPARTMENT OF HEALTH AND HUMAN SERVICES

Announcement of First Meeting of the 2025 Dietary Guidelines Advisory Committee and Request for Comments; Correction

AGENCY: Office of the Assistant Secretary for Health, Office of the Secretary, Department of Health and Human Services.

ACTION: Notice; correction.

SUMMARY: The Office of the Assistant Secretary for Health published a document in the Federal Register of January 3, 2023, announcing the first public meeting for the 2025 Dietary Guidelines Advisory Committee (Committee) and Request for Comments. The document was published prematurely and the docket at regulations.gov is not yet ready to accept comments from the public and DietaryGuidelines.gov does not yet include the information stated in the notice related to the 2025 Committee members or the public meeting.

FOR FURTHER INFORMATION CONTACT: Designated Federal Officer, 2025 Dietary Guidelines Advisory Committee, Janet M. de Jesus, MS, RD; HHS/OASH/ODPHP, 1101 Wootton Parkway, Suite 420, Rockville, MD 20852; Phone: 240-453-8266; Email DietaryGuidelines@hhs.gov.

SUPPLEMENTARY INFORMATION:

Correction

In the Federal Register of January 3, 2023, in FR Doc. 2022-28510, beginning on page 79, we inadvertently included information pertaining to the first meeting scheduled for February 9-10, 2023. At this time, we are not prepared to accept public comments until we have aligned other important matters pertaining to the release of the FRN. We will then republish the FRN in its entirety at a later date. We do apologize for the inconvenience and will welcome comment upon that time.

Paul Reed,
Deputy Assistant Secretary for Health, Office of Disease Prevention and Health Promotion.

[FR Doc. 2023-00028 Filed 1-5-23; 8:45 am]

BILLING CODE 4150-32-P